FEDERAL COMMUNICATIONS COMMISSION

47 CFR Part 73

[DA No. 00-946, MM Docket No. 99-237; RM-9663]

Radio Broadcasting Services; Medina, TX

AGENCY: Federal Communications Commission.

ACTION: Proposed rule; dismissal.

SUMMARY: This document denies a petition for rule making filed by Medina Radio Broadcasting Company requesting the allotment of Channel 296A at Medina, Texas. See 64 FR 36324, July 6, 1999. This document in this proceeding questioned community status and requested commenting parties to present the Commission with information demonstrating community status. Based on the totality of evidence submitted, we do not believe that Medina qualifies as a community for allotment purposes and that it would not serve the public interest to make a channel allotment in response to Medina Radio's proposal.

FOR FURTHER INFORMATION CONTACT: Kathleen Scheuerle, Mass Media Bureau, (202) 418-2180.

SUPPLEMENTARY INFORMATION: This is a summary of the Commission's Report and Order, MM Docket No. 99-237, adopted April 19, 2000, and released April 25, 2000. The full text of this Commission decision is available for inspection and copying during normal business hours in the Commission's Reference Center, 445 12th Street, SW, Washington, DC. The complete text of this decision may also be purchased from the Commission's copy contractors, International Transcription Services, Inc., 1231 20th Street, NW., Washington, DC. 20036, (202) 857-3800, facsimile (202) 857-3805.

Federal Communications Commission.
John A. Karousos,
Chief, Allocations Branch, Policy and Rules Division, Mass Media Bureau.

[FR Doc. 00-13136 Filed 5-24-00; 8:45 am]

BILLING CODE 6712-01-P